DEPARTMENT OF JUSTICE

Antitrust Division

Notice Pursuant to the National Cooperative Research and Production Act of 1993—Telemanagement Forum

Notice is hereby given that, on July 21, 2020, pursuant to Section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Sedicii Innovations Limited, Carriganore, IRELAND; Istanbul University Informatics Department, Istanbul, TURKEY; Université de Paris, Paris, FRANCE; Devapo Sp. z o. o., Warsaw, POLAND; Glasfaser NordWest GmbH & Co .KG, Oldenburg, GERMANY; Honne Services, Monterrey, MEXICO; Akademia Górniczo Hutnicza, Kraków, POLAND; Institute for Problems in Mechanics of the Russian Academy of Sciences, Moscow, RUSSIA; Ladoke Akintola University of Technology, Oyo State Nigera, NIGERIA; Mageda, Sao Paulo, BRAZIL; SENAC, Sao Paulo, BRAZIL; GuoChuang Cloud Technology Co., Ltd., Hefei, PEOPLES' REPUBLIC OF CHINA; OSSEra, Sacramento, CA; ETI Software Solutions, Norcross, GA; LotusFlare, Santa Clara, CA; National Broadband Ireland, Dublin, IRELAND; Pak Telecom Mobile Limited, Islamabad, PAKISTAN; PT Telkomunikasi Indonesia, Bandung, INDONESIA; Sparkle, Rome, ITALY; Turknet, Istanbul, TURKEY; Dhivehi Raajjeyge Gulhun Plc, Male, MALDIVES; Kyivstar JSC, Kyiv, UKRAINE.

Also, the following members have changed their names: Altech ISIS, a Division of Altech Information Technologies (Pty) Limited to Bytes Systems Integration a division of Altron TMT (Pty) Ltd, Cape Town, SOUTH AFRICA; CSG International to CSG, Greenwood Village, CO; JSC ALFASATCOM to ALFASATCOM JSC, Moscow, RUSSIA; PJSC Rostelecom to Rostelecom PJSC, Moscow, RUSSIA; Fair Isaac Corporation to FICO, San Diego, CA.

In addition, the following parties have withdrawn as parties to this venture: Abdatis, Regina, CANADA; AN10, Chevy Chase, MD; Arago, New York, NY; C-DOT, Bangalore, INDIA; Clarebourne Consultancy Ltd, Bristol, UNITED KINGDOM; EC4U Expert Consulting AG, Karlsruhe, GERMANY; Fluxicon, Eindhoven, NETHERLANDS; Hansen Technologies Denmark A/S, Sonderborg, DENMARK; iD Mobile, London, UNITED KINGDOM; InfoVista, Ashburn, VA; Internexa, S.A., Bogotá, COLOMBIA; J. Rosen Consulting KG, Vienna, AUSTRIA; Jamii Telecommunications Ltd, Nairobi, KENYA; KBZ Gateway SI Company Limited, Yangon, MYANMAR; KPMG.com.au, Sydney, AUSTRALIA; New Zealand Government, Wellington, NEW ZEALAND; Nice Cote d'Azur Metropolis, Nice, FRANCE; Nuevatel PCS de Bolivia, La Paz, BOLIVIA; Pole Star, London, UNITED KINGDOM; Safe Data Matters, Cork, IRELAND; Somos, Herndon, VA; TIMWETECH, Lisbon, PORTUGAL; Town of Austin, Austin, CANADA; Unlimit IoT Private Ltd., Mumbai, INDIA; Valo Networks, Calgary, CANADA.

No other changes have been made in either the membership or planned activity of the group research project. Membership in this group research project remains open and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on May 20, 2020. A notice was published in the Federal Register pursuant to Section 6(b) of the Act on June 18, 2020 (85 FR 36879).

Suzanne Morris,
Chief, Premerger and Division Statistics, Antitrust Division.

[FR Doc. 2020-16665 Filed 7-30-20; 8:45 am]

BILLING CODE 4410-11-P